SMALL BUSINESS ADMINISTRATION

[License No. 09/79-0454]

Emergence Capital Partners SBIC, L.P.; Notice Seeking Exemption Under Section 312 of the Small Business Investment Act, Conflicts of Interest

Notice is hereby given that Seacoast Capital Partners III, L.P., 555 Ferncroft Road, Danvers, MA 01923, a Federal Licensee under the Small Business Investment Act of 1958, as amended (“the Act”), in connection with the financing of a small concern, has sought an exemption under Section 312 of the Act and Section 107.730, Financings which Constitute Conflicts of Interest of the Small Business Administration (“SBA”) Rules and Regulations (13 CFR 107.730). Seacoast Capital Partners III, L.P., proposes to provide debt/equity security financing to Fox Run Holdings, Inc., 1907 Stout Drive, Warminster, PA 18974 (“Fox Run”).

The financing is brought within the purview of § 107.730(a)(1) of the Regulations because Seacoast Capital Partners II, L.P. an Associate of Seacoast Capital Partners III, L.P., own more than ten percent of Fox Run, and therefore this transaction is considered a financing of an Associate requiring prior SBA approval.

Notice is hereby given that any interested person may submit written comments on the transaction, within fifteen days of the date of this publication, to the Associate Administrator for Investment, U.S. Small Business Administration, 409 Third Street SW., Washington, DC 20416.

Dated: June 14, 2012.
Sean J. Greene,
Associate Administrator for Investment.

[FR Doc. 2012-15559 Filed 6-25-12; 8:45 am]

BILLING CODE P